ENVIRONMENTAL PROTECTION AGENCY

[ER-FRL-6689-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070207, ERP No. D-AFS-J65482-SD, Citadel Project Area, Proposes to Implement Multiple Resource Management Actions, Northern Hills Ranger District, Black Hills National Forest, Lawrence County, SD

Summary: EPA expressed environmental concerns about the potential impacts to water quality, aquatic resources and wildlife habitat from new road construction and impacts from existing roads need maintenance, and suggested that the final EIS include additional information on implementing proposed road closures.

Rating EC2.

EIS No. 20070222, ERP No. D-AFS-J65484-MT, Grizzly Vegetation and Transportation Management Project, Proposes Timber Harvest, Prescribed Burning, Road Maintenance, and Transportation Management Actions, Three Rivers Ranger District, Kootenai National Forest, Lincoln County, MT

Summary: EPA expressed environmental concerns about potential adverse impacts to soil and water quality.

Rating EC2.

EIS No. 20070238, ERP No. D-AFS-K65328-00, Mt. Ashland Late-Successional Reserve Habitat Restoration and Fuels Reduction Project, To Promote and Maintain Late-Successional Habitat, Oak Ranger District, Klamath National Forest, Siskiyou County, CA and Jackson County, OR

Summary: EPA expressed environmental concerns about impacts to riparian areas and the watershed from proposed silviculture treatments and recommended that the Final EIS include information about potential source water locations in the project area, and identify Alternative 5 as the Preferred Alternative.

Rating EC2.

Final EISs

EIS No. 20070219, ERP No. F-AFS-J65478-00, Norwood Project, Proposes to Implement Multiple Resource Management Actions, Black Hills National Forest, Hell Canyon Ranger District, Pennington County, SD and Weston and Crook Counties, WY

Summary: The final EIS and additional information adequately addressed EPA's concerns with impacts to water quality soils and wetlands, roads, sedimentation and OHV use, invasive and noxious weeds, and wildlife habitat; therefore, EPA does not object to this proposed action.

EIS No. 20070233, ERP No. F-NPS-J65461-CO, Great Sand Dunes National and Preserve. General Management Plan/Wilderness Study, Implementation, Alamos and Saguache Counties, CO

Summary: No formal comment letter was sent to the preparing agency.

EIS No. 20070235, ERP No. F-BLM-K65306-CA, Alturas Field Office Project, Resource Management Plan, Implementation, Alturas Field Office Project, Resource Management Plan, Implementation, Lassen, Modoc, Shasta and Siskiyou Counties, CA

Summary: EPA continues to have environmental concerns about water quality, soil condition and rangeland habitat, and requested that BLM focus on relieving grazing pressure in Category 1 rangelands until these areas improve. EPA also requested the closure of OHV route segments adjacent to waters to improve soil conditions, habitat, and water quality.

EIS No. 20070236, ERP No. F-BLM-K65307-00, Eagle Lake Field Office Project, Resource Management Plan, Implementation, Lassen, Plumas, Sierra Counties, CA and Washoe County, NV

Summary: EPA continues to have environmental concerns about water quality and soil condition and rangeland habitat, and requested that BLM focus on relieving grazing pressure in Category 1 rangelands until these areas improve. EPA also requested the closure of additional OHV route segments adjacent to waters to improve soil conditions, habitat, and water quality.

EIS No. 20070240, ERP No. F-AFS-J65401-00, Northern Rockies Lynx Management Direction, Selected Alternative F, Conservation and Promote Recovery of the Canada Lynx, NFS and BLM to Amend Land Resource Management Plans for 18 National Forests (NF), MT, WY, UT, and ID

Summary: EPA continues to have environmental concerns about mitigation measures to protect the lynx and its habitat.

EIS No. 20070283, ERP No. F-AFS-L65532-OR, Five Buttes Project, Conduct Vegetation Management Activities, Implementation, Deschutes National Forest, Crescent Ranger District, Deschutes County, OR

Summary: No formal comment letter was sent to the preparing agency.

EIS No. 20070293, ERP No. F-SFW-A65170-00, Light Goose Management Plan, Reducing and Stabilizing Specific Populations “Light Geese” in North America, Implementation

Summary: EPA does not object to the proposed action.

EIS No. 20070254, ERP No. FS-TVA-E06008-TN, Watts Bar Nuclear Plant Unit 2, Completion and Operation, Updated Information on Extensive Environmental Record, Rhea County, TN

Summary: EPA continues to have environmental concerns about the ongoing need for appropriate storage and ultimate disposition of radioactive waste generated on-site. EPA also has concerns about the lack of measures to limit bioentrainment and other impacts to aquatic species from surface water withdrawals and discharges.

Dated: August 7, 2007.
Robert W. Hargrove,
Director, NEPA Compliance Division, Office of Federal Activities.

[FR Doc. E7-15714 Filed 8-9-07; 8:45 am]

BILLING CODE 6560-50-P